DEPARTMENT OF HEALTH AND HUMAN SERVICES

Centers for Disease Control and Prevention

[60Day-03-122]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer at (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda Perryman, CDC Assistant Reports Clearance Officer, 1600 Clifton Road, MS-D24, Atlanta, GA 30333. Written comments should be received within 60 days of this notice.

Proposed Project: Online Evaluation Of A GIS Map Server Project With The Migrant Clinicians Network—New—Agency for Toxic Substances and Disease Registry (ATSDR).

In 2001, ATSDR began working with the Migrant Clinicians Network (MCN) on a national project to use an internet-based mapping service to help decrease disparities by improving health care services for migrant workers through a resource, information, consultation and reporting Geographic Information Systems (GIS) mapping application for the health care providers within the MCN. The Web site will be available at http://gis.cdc.gov/mcnarcims.

As part of the implementation of the Web site, MCN and ATSDR are proposing to include an online evaluation survey to ensure that the mapping service is meeting the needs of the health care clinicians providing services to migrant populations. The survey will provide both MCN and ATSDR valuable immediate opportunities to configure the Web site to the practical needs of the physicians and other health care providers using the Web site for clinical care to prevent, intervene, and treat environmental exposures for migrant farm workers and their families.

The evaluation survey will be included on the main access page of the Web site http://gis.cdc.gov/mcnarcims. The feedback survey will be completely voluntary and will assess the following: (1) ease of navigating the Web site; (2) ease of locating information within the site; (3) content of the Web site; (4) technology issues (e.g., loading, links, printing); and (5) utility of the Web site to health care practice and environmental health prevention, practice and intervention. An additional question will ascertain the respondent's job category to determine the type of person accessing the Web site which will help ATSDR and MCN update and modify the content of the Web site to better fit the actual site user.

It is anticipated that the feedback survey will provide critical information to enable ATSDR to provide ongoing continuing improvement of the site to meet the needs of the MCN clinician. This will also provide ATSDR and MCN with benchmarks to meet agency performance standards. The feedback survey will be at no financial cost to the participant and will be located on the ATSDR GIS map server Web site.

Respondents | Number of respondents | Responses per respondent | Average burden per response (in hours) | Total annual burden (in hours)
MCN Health Care Members | 400 | 1 | 5/60 | 33
General public | 100 | 1 | 5/60 | 8
Total |  |  |  | 41

Dated: September 19, 2003.
Thomas A. Bartenfeld,
Acting Associate Director for Policy, Planning and Evaluation, Centers for Disease Control and Prevention.

[FR Doc. 03-24278 Filed 9-24-03; 8:45 am]

BILLING CODE 4163-18-P